ENVIRONMENTAL PROTECTION AGENCY

[FRL-7218-9]

Agreement and Covenant Not To Sue, Sharon Steel Superfund Site, Midvale, UT

AGENCY: Environmental Protection Agency (U.S. EPA).

ACTION: Notice; Agreement and Covenant Not to Sue.

SUMMARY: In accordance with the requirements of the Comprehensive Environmental Response, Compensation, and Liability Act, as amended(“CERCLA”), 42 U.S.C. 9601 et seq., notice is hereby given of an Agreement and Covenant Not to Sue (“Agreement”), also known as a Prospective Purchaser Agreement (“PPA”), concerning the Sharon Steel Superfund Site in Midvale, Utah (the “Site”). The Agreement resolves any potential liability for response costs incurred and to be incurred by the United States Environmental Protection Agency (“EPA”) and the State of Utah Department of Environmental Quality that may be acquired by the City of Midvale, UT when it takes title to certain permanent easements that traverse the Sharon Steel Superfund Site. The City of Midvale is taking title to these easements in order to construct the Provo/Jordan River Parkway Pedestrian & Bicycle Trail and the Bingham Junction Parkway.

DATES: Comments must be submitted to EPA on or before June 28, 2002.

ADDRESSES: Comments should be addressed to Nancy A. Mangone, (8ENF-L), Enforcement Attorney, U.S. Environmental Protection Agency, Region VIII, 999 18th Street, Suite 300, Denver, Colorado 80202-2466, and should refer to: In the Matter of: Sharon Steel Superfund Site Agreement And Covenant Not To Sue Midvale City.

FOR FURTHER INFORMATION CONTACT: Nancy A. Mangone, (8ENF-L), Enforcement Attorney, U.S. Environmental Protection Agency, Region VIII, 999 18th Street, Suite 300, Denver, Colorado 80202-2466, (303) 312-6903.

SUPPLEMENTARY INFORMATION: Notice of Agreement and Covenant Not to Sue with the City of Midvale for the Sharon Steel Superfund Site: In accordance with CERCLA, 42 U.S.C. 9601, et seq. notice is hereby given that the terms of a Prospective Purchaser Agreement and a covenant not to sue have been agreed to by the United States, Utah Department of Environmental Quality and the City of Midvale.

By the terms of the proposed Agreement, the City will acquire permanent public easements and access rights across certain portions of the Site in order to: (1) Construct a non-motorized, multiple-use recreational trail along the western edge of the Site, from 7980 South to 8500 South, known as the Provo/Jordan River Parkway Pedestrian & Bicycle Trail, including an access road known as the Oxbow Road, (collectively, the “Parkway Trail”); and (2) construct a new north/south road, the Bingham Junction Parkway, from 7800 South at approximately 1000 West, across the eastern portion of the Site, to Sandy Parkway (“Bingham Junction Parkway”).

The PPA provides the City with covenants not to sue from EPA and UDEQ for liability for the existing contamination that has already been addressed by the remedial action performed at the Site in accordance with section 107(a) of CERCLA, 42 U.S.C. 9607(a) and the Utah Hazardous Substance Mitigation Act, section 19-6-301, et seq., Utah Code Ann. The City will also receive contribution protection under section 113 CERCLA, 42 U.S.C. 9613, for claims that could be brought against it by third parties. In consideration for these covenants not to sue, the City has agreed to perform operation and maintenance (“O&M”) activities on that portion of the Sharon Steel Site it is acquiring, which amounts to approximately 15 acres of the Site. The current annualized value of the performance of these O&M activities is estimated to be $22,505 for the Bingham Junction Parkway and $4,938 for the Parkway Trail. The City is also providing O&M for the access road to the Site, known as Oxbow Road.

U.S. EPA will receive, for a period of thirty (30) days from the date of this publication, comments relating to the Agreement and Covenant Not to Sue for the Sharon Steel Superfund Site. A copy of the PPA may be obtained in person or by mail from Mike Rudy, Enforcement Specialist (ENF-T),Environmental Protection Agency, Region VIII, 999 18th Street, Suite 300,Denver, Colorado 80202-2466, (303) 312-6332.

Dated: May 17, 2002.
Michael T. Risner,
Acting Assistant Regional Administrator, Office of Enforcement, Compliance and Environmental Justice.

[FR Doc. 02-13350 Filed 5-28-02; 8:45 am]

BILLING CODE 6560-50-P